DEPARTMENT OF THE INTERIOR

Bureau of Land Management

[LLWY910000 L16100000 XX0000]

Public Meeting; Wyoming Resource Advisory Council

AGENCY: Bureau of Land Management, Interior.

ACTION: Notice.

SUMMARY: In accordance with the Federal Land Policy and Management Act and the Federal Advisory Committee Act of 1972, the U.S. Department of the Interior, Bureau of Land Management (BLM) Wyoming Resource Advisory Council (RAC) will meet as indicated below.

DATES: The meetings will be held March 28 (8 a.m.-5 p.m.) and March 29 (8 a.m.-3 p.m.), 2012.

ADDRESSES: The meeting will be at the Hilton Garden Inn and University of Wyoming Conference Center, 2229 Grand Avenue, Laramie, WY 82070.

FOR FURTHER INFORMATION CONTACT: Cindy Wertz, Wyoming Resource Advisory Council Coordinator, Wyoming State Office, 5353 Yellowstone, Cheyenne, WY 82009; telephone 307-775-6014; email cwertz@blm.gov.

Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This 10-member RAC advises the Secretary of the Interior on a variety of management issues associated with public land management in Wyoming.

Planned agenda topics include an update from the University of Wyoming faculty on current projects and research, follow-up on last meeting's planning and cooperating agency discussion, and an update on restoration and reclamation projects.

All RAC meetings are open to the public with time allocated for hearing public comments. On March 29, there will be a 30-minute public comment period at 1 p.m. The public may also submit written comments to the RAC. Depending on the number of persons wishing to comment and time available, the time for individual oral comments may be limited.

Larry Claypool,
Acting State Director.

[FR Doc. 2012-4565 Filed 2-24-12; 8:45 am]

BILLING CODE 4310-22-P